DEPARTMENT OF HEALTH AND HUMAN SERVICES

Health Resources and Services Administration

Agency Information Collection Activities: Proposed Collection: Public Comment Request; Information Collection Request Title: Medicare Rural Hospital Flexibility Program Performance

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 6, 2025.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Medicare Rural Hospital Flexibility Program Performance, OMB No. 0915-0363—Revision.

Abstract: The mission of the Federal Office of Rural Health Policy (FORHP) within HRSA is to sustain and improve access to quality care services for rural communities. FORHP administers the Medicare Rural Hospital Flexibility Program (Flex Program) authorized by section 1820(g) of the Social Security Act (42 U.S.C. 1395i-4(g)). The purpose of the Flex Program is to enable state designated entities to support critical access hospitals in quality improvement, quality reporting, and performance improvement; to assist facilities seeking designation as critical access hospitals; and to create a program to establish or expand the provision of rural emergency medical services. HRSA currently collects information from grant recipients that participate in the Flex Program using an OMB-approved set of performance measures, the Medicare Rural Hospital Flexibility Program Performance Measures, and seeks to revise its approved information collection. HRSA is proposing significant changes to the method by which performance measures are collected, the organization of the measures, and the measures themselves.

Need and Proposed Use of the Information: These measures cover principal topic areas of interest to FORHP, including: (a) quality reporting, (b) quality improvement interventions, (c) financial and operational improvement initiatives, (d) population health management, and (e) rural EMS integration. In addition to informing HRSA's progress toward meeting the goals set in the Government Performance and Results Act, the information is important in identifying and understanding programmatic improvement across program areas, as well as guiding future iterations of the Flex Program and prioritizing areas of need and support.

Performance measures are collected electronically in the Performance Improvement and Measurement System (PIMS), which awardees currently access through the HRSA Electronic Handbooks, a data collection platform. As part of a broader change affecting all programs across FORHP, HRSA proposes to change the method of PIMS report submission from the Electronic Handbooks to a different electronic data collection platform. In addition, HRSA proposes to reduce the total number of forms submitted. The current collection involves eight forms and HRSA proposes reducing this to six forms, one for recipients to select which program areas they are working in and one for each program area selected.

Performance measures in PIMS are currently organized by a series of checkboxes, where a state entity selects which hospitals are participating in a funded intervention, and if that hospital has shown improvement after that intervention. HRSA proposes to change the organization of the measures to align with a format that would resemble a work plan submission, which is an existing requirement recipients must meet. Instead of the series of checkboxes used in the current collection, we are proposing a series of dropdown menus where respondents can choose more specific information.

Finally, HRSA proposes revisions to performance measures in PIMS that include changes to align with current terminology used by HRSA and a broadening of scope for some activities, as well as providing examples of more specific measures. Dropdown menus would contain lists of both common projects completed across the Flex Program and common outcome measures associated with each project. Respondents would not be required to collect all of the measures listed, rather they would be able to choose from a list of examples.

With these changes, HRSA estimates the burden on the recipients would remain the same. Even though HRSA is proposing to include more specific performance measures in PIMS reporting, the additional measures reflect data the recipients are currently collecting, in outside forms and spreadsheets. The reporting in PIMS to HRSA currently does not include all the specific outcome measure information collected by recipients, so the changes to the measure collection system would include that specific outcome measure information. However, instead of moving between multiple forms and spreadsheets outside of the PIMS system and copying information into it, recipients will be able to simply update their work plan in PIMS following the end of the program year with their outcome data.

Likely Respondents: Respondents are the Flex Program recipients. There are currently 45 states participating in the Flex Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement Measurement System | 45 | 1 | 45 | 70 | 3,150
Total | 45 |  | 45 |  | 3,150

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-25717 Filed 11-5-24; 8:45 am]

BILLING CODE 4165-15-P